DEPARTMENT OF HEALTH AND HUMAN SERVICES

National Institutes of Health

National Institute of Allergy and Infectious Diseases; Notice of Closed Meeting

Pursuant to section 10(d) of the Federal Advisory Committee Act, as amended (5 U.S.C. Appendix 2), notice is hereby given of the following meeting.

The meeting will be closed to the public in accordance with the provisions set forth in sections 552b(c)(4) and 552b(c)(6), Title 5 U.S.C., as amended. The contract proposals and the discussions could disclose confidential trade secrets or commercial property such as patentable material, and personal information concerning individuals associated with the contract proposals, the disclosure of which would constitute a clearly unwarranted invasion of personal privacy.

Name of Committee: National Institute of Allergy and Infectious Diseases Special Emphasis Panel To Review Contract Proposals.

Date: April 16-17, 2008.

Time: 7:30 a.m. to 7 p.m.

Agenda: To review and evaluate contract proposals.

Place: Hilton Washington DC/Silver Spring; 8727 Colesville Road, Silver Spring, MD 20910.

Contact Person: Brenda Lange-Gustafson, PhD, Scientific Review Officer, NIAID, DEA, Scientific Review Program, Room 3122, 6700-B Rockledge Drive, MSC-7616, Bethesda, MD 20892-7616, 301-451-3684, bgustafson@niaid.nih.gov.

This notice is being published less than 15 days prior to the meeting due to the timing limitations imposed by the review and funding cycle.

(Catalogue of Federal Domestic Assistance Program Nos. 93.855, Allergy, Immunology, and Transplantation Research; 93.856, Microbiology and Infectious Diseases Research, National Institutes of Health, HHS)

Dated: March 20, 2008.
Anna Snouffer,
Deputy Director, Office of Federal Advisory Committee Policy.

[FR Doc. E8-6194 Filed 3-27-08; 8:45 am]

BILLING CODE 4140-01-M